DEPARTMENT OF COMMERCE

International Trade Administration

[A-602-803, A-122-822, A-427-808, A-428-815, A-588-824, A-580-816, C-580-818]

Certain Corrosion-Resistant Carbon Steel Flat Products from Australia, Canada, France, Germany, Japan, and South Korea: Extension of Time Limits for Final Results of Expedited Sunset Reviews

AGENCY: Import Administration, International Trade Administration, Department of Commerce.

EFFECTIVE DATE: February 28, 2006.

FOR FURTHER INFORMATION CONTACT: John Conniff or David Goldberger, AD/CVD Operations, Import Administration, International Trade Administration, U.S. Department of Commerce, 14th Street & Constitution Avenue, NW., Washington, DC 20230; telephone: (202) 482-1009 or (202) 482-4136, respectively.

SUPPLEMENTARY INFORMATION:

Extension of Time Limits

On November 1, 2005, the Department of Commerce (“the Department”) initiated sunset reviews of the antidumping duty (“AD”) orders on certain corrosion-resistant carbon steel flat products (“CORE”) from Australia, Canada, France, Germany, Japan, and South Korea and the countervailing duty order (“CVD”) on CORE from South Korea, pursuant to section 751(c) of the Tariff Act of 1930, as amended (“the Act”). See Initiation of Five-Year (Sunset) Reviews, 70 FR 65884 (November 1, 2005). Based on an adequate responses from the domestic interested parties and inadequate responses from respondent interested parties, the Department is conducting expedited sunset reviews to determine whether revocation of the AD orders on CORE from Australia, Canada, France, Germany, Japan, and South Korea would lead to the continuation or recurrence of dumping and whether revocation of the CVD order on CORE from South Korea would lead to continuation or recurrence of a countervailable subsidy. See section 19 CFR 351.218(e)(1)(ii)(C) of the Act.

In accordance with section 751(c)(5)(B) of the Act, the Department may extend the period of time for making its determination in a sunset review by not more than 90 days, if it determines that the review is extraordinarily complicated. As set forth in section 751(c)(5)(C)(v) of the Act, the Department may treat a sunset review as extraordinarily complicated if it is a review of a transition order. The sunset reviews subject to this notice are reviews of transition orders. Therefore, the Department has determined, pursuant to section 751(c)(5)(C)(v) of the Act, that the sunset reviews of the AD orders on CORE from Australia, Canada, France, Germany, Japan, and South Korea and the sunset review of the CVD order on CORE from South Korea are extraordinarily complicated and require additional time for the Department to complete its analysis. Accordingly, the Department will extend the deadlines in these proceedings, and, as a result, intends to issue the final results of the expedited sunset reviews on CORE from Australia, Canada, France, Germany, Japan, and South Korea on or about May 30, 2006, 90 days from the original scheduled date of the expedited final sunset reviews.

This notice is issued and published in accordance with sections 751(c)(5)(B) and (C) of the Act.

Dated: February 21, 2006.
Stephen J. Claeys,
Deputy Assistant Secretary for Import Administration.

[FR Doc. E6-2788 Filed 2-27-06; 8:45 am]

Billing Code: 3510-DS-S